DEPARTMENT OF THE TREASURY

Submission for OMB Review; Comment Request

April 28, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 5, 2006 to be assured of consideration.

Internal Revenue Service (IRS)

OMB Number: 1545-0169.

Type of Review: Extension.

Title: Form 4461, Application for Approval of Master or Prototype Defined Contribution Plan; Form 4461-A, Application for Approval of Master or Prototype Defined Benefit Plan; Form 4461-B, Application of Master or Prototype Plan, Mass Submitter Adopting Sponsor.

Form: IRS 4461, 4461-A and 4461-B.

Description: The IRS uses these forms to determine from the information submitted whether the applicant plan qualifies under section 401(a) of the Internal Revenue Code for plan approval. The application is also used to determine if the related trust qualifies for tax exempt status under Code Section 501(a).

Respondents: Business or other for-profit.

Estimated Total Burden Hours: 109,298 hours.

OMB Number: 1545-0205.

Type of Review: Extension.

Title: Corporate Report of Nondividend Distributions.

Form: IRS 5452.

Description: Form 5452 is used by corporations to report their nontaxable distributions as required by IRC 6042(d)(2). The information is used by IRS to verify that the distributions are nontaxable as claimed.

Respondents: Business or other for-profit and Farms.

Estimated Total Burden Hours: 50,830 hours.

OMB Number: 1545-0820.

Type of Review: Extension.

Title: REG-122917-02 (NPRM) Statutory Options (Previously EE-86-88(LR-279-81).

Description: The affected public includes corporations that transfer stock to employees after 1979 pursuant to the exercise of a statutory stock option. The corporation must furnish the employee receiving the stock with a written statement describing the transfer. The statement will assist the employee in filling their tax return.

Respondents: Business or other for-profit.

Estimated Total Burden Hours: 16,650 hours.

OMB Number: 1545-0887.

Type of Review: Extension.

Title: Information Return for Publicly Offered Original Issue Discount Instruments.

Form: IRS 8281.

Description: Form 8281 is filed by the issuer of a publicly offered debt instrument having OID. The information is used to update Pub. 1212, List of Original Issue Discount Instruments.

Respondents: Business or other for-profit.

Estimated Total Burden Hours: 3,060 hours.

OMB Number: 1545-1086.

Type of Review: Extension.

Title: Excise Tax on Greenmail.

Form: IRS 8725.

Description: Form 8725 is used by persons who receive “greenmail” to compute and pay the excise tax on greenmail imposed under Section 5881. IRS uses the information to verify that the correct amount of tax has been reported.

Respondents: Business or other for-profit.

Estimated Total Burden Hours: 92 hours.

OMB Number: 1545-01241.

Type of Review: Extension.

Title: PS-92-90 (Final) Special Valuation Rules.

Description: Section 2701 of the Internal Revenue Code allows various electronics by family members who make gifts of common stock or partnership interests and retain senior interests. The elections affect the value of the gifted interest and the retained interests.

Respondents: Business or other for-profit.

Estimated Total Burden Hours: 496 hours.

Clearance Officer: Glenn P. Kirkland, Internal Revenue Service, Room 6516, 1111 Constitution Avenue, NW., Washington, DC 20224. (202) 622-3428.

OMB Reviewer: Alexander T. Hunt, Office of Management and Budget, Room 10235, New Executive Office Building, Washington, DC 20503. (202) 395-7316.

Michael A. Robinson,
Treasury PRA Clearance Officer.

[FR Doc. E6-6734 Filed 5-3-06; 8:45 am]

BILLING CODE 4830-01-P